DEPARTMENT OF TRANSPORTATION

Surface Transportation Board

Notice and Request for Comments

AGENCY: Surface Transportation Board, DOT.

ACTION: 30-day notice of request for approval: End-of-Year Railroad Service Outlook.

SUMMARY: As part of its continuing effort to reduce paperwork burdens, and as required by the Paperwork Reduction Act of 1995, 44 U.S.C. 3501-3519 (PRA), the Surface Transportation Board (STB or Board) gives notice that it is requesting from the Office of Management and Budget (OMB) approval of the information collection resulting from the Board's annual request that Class I carriers and rail carriers that are members of the American Shortline and Regional Railroad Association (ASLRRA) provide the Board with information about the plans and preparations that these rail carriers have made in anticipation of the increased demand for rail service during the fall peak demand season.

The Board previously published a notice about this collection in the Federal Register on June 24, 2013, at 78 FR 37882 (60-day notice). That notice allowed for a 60-day public review and comment period. No comments were received.

Comments may now be submitted to OMB concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility. Submitted comments will be considered and also included in the Board's request for OMB approval.

Description of Collection

Title: End-of-Year Railroad Service Outlook.

OMB Control Number: 2140-XXXX.

STB Form Number: None.

Type of Review: Existing collection in use without an OMB control number.

Respondents: The Class I rail carriers and carriers that are members of ASLRRA.

Number of Respondents: An average of 9 carriers respond to this request to voluntarily provide this information.¹

¹ In the 60-day notice, the Board indicated that there were approximately 11 respondents. Although no comments were filed, we are adjusting our estimate of the number of respondents to nine. This adjustment to the Board's estimate is based on our updated calculation of the 5-year average number of actual filings by respondents.

Frequency: Once per year.

Total Burden Hours (annually including all respondents): We estimate a total of 273 hours for all responding carriers (30.3 hours per response × 9 respondents).

Total “Non-hour Burden” Cost: Because respondents email their response letters to the Board, there are no non-hour costs to respondents.

Needs and Uses: The shipping community and our economy as a whole depend on reliable and efficient freight rail service. The Board and rail shippers need to understand how carriers plan to meet the increased demand for rail service during the fall peak demand season, including capital plans for relieving bottlenecks. For several years, the Board has asked Class I railroads, along with the ASLRRA member railroads, to provide a forward-looking assessment of their ability to meet end-of-year business demands for rail service, which typically increase during the fall shipping season. The Board uses this information to monitor efforts by U.S. rail carriers to meet the increased fall peak demand for rail service.

DATES: Comments on this information collection should be submitted by August 28, 2014.

ADDRESSES: Written comments should be identified as “Paperwork Reduction Act Comments, Surface Transportation Board, End-of-Year Railroad Service Outlook.” These comments should be directed to the Office of Management and Budget, Office of Information and Regulatory Affairs, Attention: Patrick Fuchs, Surface Transportation Board Desk Officer, by email at OIRA_SUBMISSION@OMB.EOP.GOV; by fax at (202) 395-6974; or by mail to Room 10235, 725 17th Street NW., Washington, DC 20503.

FOR FURTHER INFORMATION CONTACT: For further information regarding the “End-of-Year Railroad Service Outlook,” contact Chris Oehrle at (202) 245-0271 or oehrlec@stb.dot.gov. [Assistance for the hearing impaired is available through the Federal Information Relay Service (FIRS) at 1-800-877-8339.] This collection, as well as instructions for the collection, are available on the Board's Web site at <http://www.stb.dot.gov/PeakLetters1.nsf/2012?OpenPage>.

SUPPLEMENTARY INFORMATION: Under the PRA, a federal agency conducting or sponsoring a collection of information must display a currently valid OMB control number. A collection of information, which is defined in 44 U.S.C. 3502(3) and 5 CFR 1320.3(c), includes agency requirements or requests that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: July 24, 2014.
Jeffrey Herzig,
Clearance Clerk.

[FR Doc. 2014-17741 Filed 7-28-14; 8:45 am]

BILLING CODE 4915-01-P